ENVIRONMENTAL PROTECTION AGENCY

40 CFR Part 52

[EPA-R04-OAR-2023-0466; FRL-12179-02-R4]

Air Plan Approval; Forsyth County, North Carolina; Removal of Excess Emissions Provisions

AGENCY: Environmental Protection Agency (EPA).

ACTION: Final rule.

SUMMARY: The Environmental Protection Agency (EPA) is approving a State Implementation Plan (SIP) revision submitted by the North Carolina Division of Air Quality (NCDAQ) on behalf of the Forsyth County Office of Environmental Assistance and Protection (FCEAP or Forsyth County) on November 28, 2022. The revision was submitted in response to a finding of substantial inadequacy and SIP call published on June 12, 2015, concerning excess emissions during startup, shutdown, and malfunction (SSM) events. EPA is approving the SIP revision in accordance with requirements for SIP provisions under the Clean Air Act (CAA or Act) and finds that such SIP revision corrects the deficiencies identified in the Forsyth County portion of the North Carolina SIP in the June 12, 2015, SIP Call. EPA is also approving minor and administrative changes to certain regulatory provisions that have been revised by the local agency since EPA's last approval of those provisions.

DATES: This rule is effective December 2, 2024.

ADDRESSES: EPA has established a docket for this action under Docket Identification No. EPA-R04-OAR-2023-0466. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Multi-Air Pollutant Coordination Section, Air Planning and Implementation Branch, Air and Radiation Division, U.S. Environmental Protection Agency, Region 4, 61 Forsyth Street SW, Atlanta, Georgia 30303-8960. EPA requests that you contact the person listed in the FOR FURTHER INFORMATION CONTACT section to schedule your inspection. The Regional Office's official hours of business are Monday through Friday 8:30 a.m. to 4:30 p.m., excluding Federal holidays.

FOR FURTHER INFORMATION CONTACT: Faith Goddard, Multi-Air Pollutant Coordination Section, Air Planning and Implementation Branch, Air and Radiation Division, U.S. Environmental Protection Agency, Region 4, 61 Forsyth Street SW, Atlanta, Georgia 30303-8960. The telephone number is (404) 562-8757. Ms. Goddard can also be reached via electronic mail at goddard.faith@epa.gov.

SUPPLEMENTARY INFORMATION:

I. Background

In a September 12, 2024, notice of proposed rulemaking (NPRM), EPA proposed to approve the November 28, 2022, SIP revision submitted by NCDAQ on behalf of Forsyth County in response to a June 12, 2015, action titled “State Implementation Plans: Response to Petition for Rulemaking; Restatement and Update of EPA's SSM Policy Applicable to SIPs; Findings of Substantial Inadequacy; and SIP Calls to Amend Provisions Applying to Excess Emissions During Periods of Startup, Shutdown, and Malfunction” (“2015 SSM SIP Action”). See 80 FR 33840 (June 12, 2015). EPA's rationale for the proposed approval and determination is explained in the September 12, 2024, NPRM.¹ See 89 FR 74171. The public comment period for EPA's proposed approval and determination ended on October 3, 2024. EPA received one comment on the September 12, 2024, NPRM, but the comment is not relevant to this action. The comment is available in the docket for this action.

¹ As discussed in the September 12, 2024, NPRM, the November 28, 2022, submission contains a revised cross-reference to source testing requirements not approved into the Forsyth County portion of the North Carolina SIP. EPA is not acting on that change in this rulemaking. On September 27, 2024, in a letter dated September 26, 2024, NCDAQ on behalf of FCEAP withdrew the portion of the November 28, 2022, SIP revision updating the aforementioned cross-reference and requested that the existing SIP-approved source testing requirements cross-reference be retained instead. See the September 26, 2024, partial withdrawal letter in the docket for this rulemaking.

II. Incorporation by Reference

In this document, EPA is finalizing regulatory text that includes incorporation by reference. In accordance with requirements of 1 CFR 51.5, and as discussed in Section I of this preamble, EPA is finalizing the incorporation by reference of Forsyth County Air Quality Control Ordinance and Technical Code Subchapter 3D, Section .0500, Rule 3D .0535, Excess Emissions Reporting and Malfunctions, locally effective July 14, 2022, with the following exceptions: EPA is not incorporating the last sentence of Rule 3D .0535(f), locally effective July 14, 2022,² and in Rule 3D .0535(c) and (g) is incorporating only the statements that each paragraph “is not included in Forsyth County's portion of the State Implementation Plan.” ³ EPA has made, and will continue to make, these materials generally available through www.regulations.gov and at the EPA Region 4 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁴

² In lieu of the July 14, 2022, locally effective version of the last sentence of Rule 3D .0535(f), EPA is retaining the September 14, 1998, locally effective version of the sentence, consistent with EPA's last approval on February 17, 2000. See 65 FR 8053. In this final action, the Agency is updating the SIP table at 40 CFR 52.1770(c) to reflect the retention of the September 14, 1998, version of the aforementioned sentence.

³ Additionally, the existing substantive text of Rule 3D .0535(c) and (g) is being removed from the Forsyth County portion of the North Carolina SIP. With this final action, the SIP-approved version of Rule 3D .0535(c) reads, “(Paragraph (c) is not included in Forsyth County's portion of the State Implementation Plan.),” and the SIP-approved version of .0535(g) reads, “(Paragraph (g) is not included in Forsyth County's portion of the State Implementation Plan.).” In this final action, the Agency is updating the SIP table at 40 CFR 52.1770(c) accordingly.

⁴ See 62 FR 27968 (May 22, 1997).

III. Final Action

EPA is approving Forsyth County's November 28, 2022, SIP submission requesting changes to Rule 3D .0535, Excess Emissions Reporting and Malfunctions, except for the change to the cross-referenced rule in Rule 3D .0535(f), into the Forsyth County portion of the North Carolina SIP. Specifically, EPA is approving the removal of the substantive text of Rule 3D .0535(c) and (g) from the Forsyth County portion of the North Carolina SIP, the addition of statements clarifying that Rule 3D .0535(c) and (g) are not included in the Forsyth County portion of the North Carolina SIP,⁵ and is otherwise approving the revised version of Rule 3D .0535 into the Forsyth County portion of the North Carolina SIP,⁶ except for the last sentence of Rule 3D .0535(f), which contains a revised cross-reference that EPA is not acting on at this time. See 89 FR 74171. EPA is approving this SIP revision because the Agency has determined that it is consistent with the requirements for SIP provisions under the CAA.

⁵ Forsyth County is retaining the substantive text of Rule 3D .0535(c) and (g) for local-law purposes only. With this final action, emission limits incorporated into the Forsyth County portion of the North Carolina SIP apply at all times, and exemptions for emissions exceeding otherwise applicable SIP emission limitations during periods of SSM, as provided in the substantive text of Rule 3D .0535(c) and (g), apply to Forsyth County in its exercise of enforcement authority for local-law purposes only. Therefore, with this final action, citizens and EPA can seek injunctive relief or civil penalties for excess emissions.

⁶ In this final action, EPA is also approving, as part of the November 28, 2022, SIP revision, certain changes to malfunction abatement plan, notification, and source testing requirements, as well as non-substantive administrative changes to the remaining Rule 3D .0535 regulatory text, as discussed in the September 12, 2024, NPRM.

IV. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rulemaking does not have tribal implications and will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The FCEAP did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 30, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 28, 2024.
Jeaneanne Gettle,
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart II—North Carolina

2. In § 52.1770, in paragraph (c)(2), amend table EPA-Approved Forsyth County Regulations by revising the entry for “Rule .0535” to read as follows:

§ 52.1770 Identification of plan.

* * * * *

(c) * * *

(2) EPA-Approved Forsyth County Regulations
Citation | Title/subject | County effective date | EPA approval date | Explanation
* * * * * * *
Section .0500 Emission Control Standards
* * * * * * *
Rule .0535 | Excess Emissions Reporting and Malfunctions | 7/14/2022 | 10/31/2024, [Insert first page of Federal Register citation] | Except for the last sentence of paragraph (f), which is retained with a local effective date of September 14, 1998. Except for language providing exemptions for emissions exceeding otherwise applicable SIP emission limitations during startup and shutdown at paragraph (c) and malfunctions at paragraph (g); paragraph (c) reads only, “(Paragraph (c) is not included in Forsyth County's portion of the State Implementation Plan.)” and paragraph (g) reads only, “(Paragraph (g) is not included in Forsyth County's portion of the State Implementation Plan.).”
* * * * * * *

* * * * *

[FR Doc. 2024-25392 Filed 10-30-24; 8:45 am]

BILLING CODE 6560-50-P